DEPARTMENT OF COMMERCE

International Trade Administration

Initiation of Antidumping and Countervailing Duty Administrative Reviews

AGENCY: Enforcement and Compliance, International Trade Administration, Department of Commerce.

SUMMARY: The U.S. Department of Commerce (Commerce) has received requests to conduct administrative reviews of various antidumping duty (AD) and countervailing duty (CVD) orders with March anniversary dates. In accordance with Commerce's regulations, we are initiating those administrative reviews.

DATES: Applicable April 28, 2025.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with March anniversary dates.

All deadlines for the submission of various types of information, certifications, comments, or actions by Commerce discussed below refer to the number of calendar days from the applicable starting time.

Respondent Selection

In the event that Commerce limits the number of respondents for individual examination for administrative reviews initiated pursuant to requests made for the orders identified below, Commerce intends to select respondents based either on U.S. Customs and Border Protection (CBP) data for U.S. imports during the period of review (POR) or questionnaires in which we request the quantity and value (Q&V) of sales, shipments, or exports during the POR. Where Commerce selects respondents based on CBP data, we intend to place the CBP data on the record within five days of publication of the initiation notice. Where Commerce selects respondents based on Q&V data, Commerce intends to place the Q&V questionnaire on the record of the review within five days of publication of the initiation notice. In either case, we intend to make our decision regarding respondent selection within 35 days of publication of the initiation notice in the Federal Register. Comments regarding the CBP data (and/or Q&V data (where applicable)) and respondent selection should be submitted within seven days after the placement of the CBP data/submission of the Q&V data on the record of the review. Parties wishing to submit rebuttal comments should submit those comments within five days after the deadline for the initial comments.

In the event that Commerce decides it is necessary to limit individual examination of respondents and conduct respondent selection under section 777A(c)(2) of the Tariff Act of 1930, as amended (the Act), the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of the review and will not collapse companies at the respondent selection phase unless there has been a determination to collapse certain companies in a previous segment of the AD proceeding (e.g., investigation, administrative review, new shipper review, or changed circumstances review). For any company subject to the review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Q&V questionnaire for purposes of respondent selection, in general, each company must report volume and value data separately for itself. Parties should not include data for any other party, even if they believe they should be treated as a single entity with that other party. If a company was collapsed with another company or companies in the most recently completed segment of the proceeding where Commerce considered collapsing that entity, complete Q&V data for that collapsed entity must be submitted.

Notice of No Sales

With respect to AD administrative reviews, we intend to rescind the review where there are no suspended entries for a company or entity under review and/or where there are no suspended entries under the company-specific case number for that company or entity. Where there may be suspended entries, if a producer or exporter named in this notice of initiation had no exports, sales, or entries during the POR, it may notify Commerce of this fact within 30 days of publication of this initiation notice in the Federal Register for Commerce to consider how to treat suspended entries under that producer's or exporter's company-specific case number.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.¹ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

¹ See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. In addition, all firms that wish to qualify for separate rate status in the administrative reviews of AD orders in which a Q&V questionnaire is issued must complete, as appropriate, either a Separate Rate Application or Certification, and respond to the Q&V questionnaire.

For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 14 calendar days after publication of this Federal Register notice. In addition to filing a Separate Rate Certification with Commerce no later than 14 calendar days after publication of this Federal Register notice. The deadline and requirement for submitting a Separate Rate Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 14 calendar days after publication of this Federal Register notice. The deadline and requirement for submitting a Separate Rate Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Certification Eligibility

Commerce may establish a certification process for companies whose exports to the United States could contain both subject and non-subject merchandise. Companies under review that were deemed to not be eligible to participate in the certification program of that proceeding may submit a Certification Eligibility Application to establish that they maintain the necessary systems to track their sales to the United States of subject and non-subject goods.

All firms listed below that are not currently eligible to certify but wish to establish certification eligibility are required to submit a Certification Eligibility Application. The Certification Eligibility Application will be available on Commerce's website at https://access.trade.gov/Resources/Certification-Eligibility-Application.pdf. Certification Eligibility Applications must be filed according to Commerce's regulations and are due to Commerce no later than 30 calendar days after the publication of the Federal Register notice.

Exporters and producers that are not currently eligible to certify, who submit a Certification Eligibility Application, and are subsequently selected as mandatory respondents must respond to all parts of the questionnaire as mandatory respondents for Commerce to consider their Certification Eligibility Application.

Initiation of Reviews

In accordance with 19 CFR 351.221(c)(1)(i), we are initiating administrative reviews of the following AD and CVD orders and findings. We intend to issue the final results of these reviews not later than March 31, 2026.

| Period to be reviewed
AD Proceedings
BRAZIL: Certain Uncoated Paper, A-351-842 | 3/1/24-2/28/25
Suzano S.A.⁴ Sylvamo do Brasil Ltda/Sylvamo Exports Ltda.
INDIA: Granular Polytetrafluoroethylene Resin, A-533-899 | 3/1/24-2/28/25
Gujarat Fluorochemicals Limited
INDIA: Certain Frozen Warmwater Shrimp,⁵ A-533-840 | 2/1/24-1/31/25
Aquatech Feed & Seafoods Pvt Ltd.
Deepak Nexgen Foods Pvt. Ltd.
Varma Marine Private Limited ⁶
INDIA: Certain New Pneumatic Off-The-Road Tires, A-533-869 | 3/1/24-2/28/25
Aakriti Manufacturing Pvt. Ltd.
Ace Ventura Tyres and Tracks
Ammann India Private Limited
Apollo Tyres Ltd.
Asha Rubber Industries
Asian Tire Factory Ltd.; Lyallpur Rubber Mills
Asiatic Tradelinks Private Limited
ATC Tires Private Limited; ATC Tires AP Private Limited
Balkrishna Industries Ltd.⁷
Braza Tyres Pvt Ltd.
Carrier Wheels Private Limited
Cavendish Industries Ltd.
Ceat Ltd.
Celite Tyre Corporation
Emerald Resilient Tyre Manufacturer
Faucon Industries
Forech India Private Limited
HRI Tires India
Innovative Tyres & Tubes Limited
JK Tyre & Industries Ltd.
John Deere India Pvt. Ltd.
K.R.M. Tyres
Mahansaria Tyres Private Limited
MRF Limited
MRL Tyres Limited aka Malhotra Rubbers Ltd.
Neosym Industry Limited
OTR Laminated Tyres (I) Pvt. Ltd.
Ralson Tyres Limited
Royal Tyres Private Limited
Rubberman Enterprises Pvt. Ltd.
Speedways Rubber Company
Sun Tyre And Wheel Systems
Sundaram Industries Private Limited
Superking Manufacturers (Tyre) Pvt., Ltd.
TOT Tyres Private Limited
Trident International Pvt. Ltd.
TVS Srichakra Limited
Tyre Experts LLP
Ultra Mile
Viaz Tyres Limited
PORTUGAL: Certain Uncoated Paper, A-471-807
3/1/24-2/28/25
The Navigator Company, S.A.
REPUBLIC OF KOREA: Acetone, A-580-899
3/1/24-2/28/25
Kumho P&B Chemicals, Inc.
LG Chem, Ltd.
THAILAND: Circular Welded Carbon Steel Pipes and Tubes, A-549-502
3/1/24-2/28/25
Apex International Logistics
Aquatec Maxcon Asia
Asian Unity Part Co., Ltd.
Better Steel Pipe Company Limited
Bis Pipe Fitting Industry Co., Ltd.
Blue Pipe Steel Center Co., Ltd.
Chuhatsu (Thailand) Co., Ltd.
CSE Technologies Co., Ltd.
Expeditors International (Bangkok)
Expeditors Ltd.
FS International (Thailand) Co., Ltd.
Kerry-Apex (Thailand) Co., Ltd.
K Line Logistics
Oil Steel Tube (Thailand) Co., Ltd.
Otto Ender Steel Structure Co., Ltd.
Pacific Pipe and Pump
Pacific Pipe Public Company Limited
Panalpina World Transport Ltd.
Polypipe Engineering Co., Ltd.
Saha Thai Steel Pipe Public Co., Ltd.; Saha Thai Steel Pipe (Public) Company, Ltd.
Schlumberger Overseas S.A.
Siam Fittings Co., Ltd.
Siam Steel Pipe Co., Ltd.
Sino Connections Logistics (Thailand) Co., Ltd.
Thai Malleable Iron and Steel
Thai Oil Group
Thai Oil Pipe Co., Ltd.
Thai Premium Pipe Co., Ltd.
Vatana Phaisal Engineering Company
Visavakit Patana Corp., Ltd.
THE PEOPLE'S REPUBLIC OF CHINA: Certain Corrosion Inhibitors, A-570-122
3/1/24-2/28/25
Anhui Trust Chem Co., Ltd.; Nanjing Trust Chem Co., Ltd.; Jiangsu Trust Chem Co.
Connect Chemicals China Co., Ltd.
Connect Chemicals GMBH
Chuzhou Kangua; Kanghua Chemical Co., Ltd.
Gold Chemical Limited
Nantong Botao Chemical Co., Ltd.
Relic Chemicals
Sagar Speciality Chemicals Pvt., Ltd.
Wuxi Connect Chemicals Co., Ltd.
Yasho Industries Pvt. Ltd.
THE PEOPLE'S REPUBLIC OF CHINA: Certain Vertical Shaft Engines Between 22C and 999CC, and Parts Thereof, A-570-119
3/1/24-2/28/25
Chongqing Dajiang Power Equipment Co., Ltd.
Chongqing Rato Technology Co., Ltd.
Chongqing Zongshen General Power Machine Co., Ltd.
Kawasaki Motors Corp., U.S.A.
Liquid Combustion Technology, LLC
Loncin Motor Co., Ltd.
Longwin Power Technology
Yamaha Motor Corporation
Yamaha Motor Powered Products Jiangsu Co., Ltd.
UKRAINE: Carbon and Certain Alloy Steel Wire Rod, A-823-816
3/1/24-2/28/25
ArcelorMittal Steel Kryvyi Rih
Metinvest Holding LLC
PJSC Dneprovsky Iron & Steel Integrated Works
PrJSC Electrometallurgical Works Dneprospetsstal
Public Joint Stock Company Yenakiieve Iron and Steel Works
Variant Agro Build Ltd.
CVD Proceedings
INDIA: Granular Polytetrafluoroethylene Resin, C-533-900
1/1/24-12/31/24
Gujarat Fluorochemicals Limited
INDIA: Certain New Pneumatic Off-The-Road Tires, C-533-870
1/1/24-12/31/24
Aakriti Manufacturing Pvt. Ltd.
Ace Ventura Tyres and Tracks
Ammann India Private Limited
Apollo Tyres Ltd.
Asha Rubber Industries
Asian Tire Factory Ltd.
Asiatic Tradelinks Private Limited
ATC Tires AP Private Limited (India)
ATC Tires Private Limited; ATC Tires AP Private Ltd.; Yokohama India Private Limited
Balkrishna Industries Ltd.
Braza Tyres Pvt Ltd.
Carrier Wheels Private Limited
Cavendish Industries Ltd.
Ceat Ltd.
Celite Tyre Corporation
Emerald Resilient Tyre Manufacturer
Faucon Industries
Forech India Private Limited
HRI Tires India
Innovative Tyres & Tubes Limited
JK Tyre & Industries Ltd.
John Deere India Pvt. Ltd.
K.R.M. Tyres
Mahansaria Tyres Private Limited
MRF Limited
MRL Tyres Limited (Malhotra Rubbers Ltd.)
Neosym Industry Limited
OTR Laminated Tyres (I) Pvt. Ltd.
Ralson Tyres Limited
Royal Tyres Private Limited
Rubberman Enterprises Pvt. Ltd.
Speedways Rubber Company
Sun Tyre And Wheel Systems
Sundaram Industries Private Limited
Superking Manufacturers (Tyre) Pvt., Ltd.
TOT Tyres Private Limited
Trident International Pvt. Ltd.
TVS Srichakra Limited
Tyre Experts LLP
Ultra Mile
Viaz Tyres Limited
REPUBLIC OF TÜRKIYE: Circular Welded Carbon Steel Pipes and Tubes, C-489-502
1/1/24-12/31/24
Borusan Birlesik Boru Fabrikalair San ve Tic.; Borusan Holding; Borusan Istikbal Ticaret T.A.S.; Borusan Lojistik Dagitim Depolama Tasimacilik ve Ticaret A.S.; Borusan Mannesmann Yatirim Holding
Borusan Mannesmann
Borusan Gemlik Boru Tesisleri A.S.
Borusan Ihracat Ithalat ve Dagitim A.S.
Borusan Ithicat ve Dagitim A.S.
Borusan Mannesmann Boru Sanayi ve Ticaret A.S.
Borusan Mannesmann Pipe U.S., Inc.
Cagil Makina Sanayi ve Ticaret A.S.
Cayirova Boru Sanayi ve Ticaret A.S.; Yucel Boru ve Profil Endustrisi A.S.
Cimtas Boru Imalatlari ve Ticaret Sirketi
Cinar Boru Profil San. Ve Tic. A.S.
Eksen Makina
Erbosan Erciyas Boru Sanayi ve Ticaret A.S.
Guner Eksport
Guven Steel Pipe; Guven Celik Born San. Ve Tic. Ltd.
HDM Celik Boru Sanayi ve Ticaret Ltd Sti.
Kale Baglanti Teknolojileri San ve Tic. A.S.
Kalibre Boru Sanayi ve Ticaret A.S.
MTS Lojistik ve Tasimacilik Hizmetleri TIC A.S. Istanbul
Net Boru Sanayi ve Dis Ticaret Koll. Sti.
Noksel Celik Boru Sanayi A.S.
Perfektup Ambalaj San. ve Tic. A.S.
Schenker Arkas Nakliyat ve Ticaret A.S.
Toscelik Metal Ticaret A.S.
Toscelik Profil ve Sac Endustrisi A.S.; Tosyali Dis Ticaret A.S.
Tubeco Pipe and Steel Corporation
Umran Celik Born Sanayii A.S.; Umran Steel Pipe Inc.
Vespro Muhendislik Mimarlik Danismanlik Sanayi ve Ticaret A.S.
Yucelboru Ihracat Ithalat ve Pazarlama A.S.
THE PEOPLE'S REPUBLIC OF CHINA: Certain Corrosion Inhibitors, C-570-123
1/1/24-12/31/24
Anhui Trust Chem Co., Ltd.; Nanjing Trust Chem Co., Ltd.; and Jiangsu Trust Chem Co., Ltd.⁸
Connect Chemicals China Co., Ltd.
Connect Chemicals GMBH
Gold Chemical Limited
Kanghua Chemical Co., Ltd. (formerly known as Nantong Kanghua Chemical Co., Ltd.)
Nantong Botao Chemical Co., Ltd.; Rugao Connect Chemical Co., Ltd.; Rugao Jinling Chemical Co., Ltd.; and Nantong Yutu Group Co., Ltd.⁹
Relic Chemicals
Sagar Speciality Chemicals Pvt., Ltd.
Wuxi Connect Chemicals Co., Ltd.
Yasho Industries Pvt. Ltd.

⁴ Commerce also received a request for review of “Suzano Papel e Celulose S.A.” However, prior to the period of review, Commerce determined that Suzano S.A. is the successor-in-interest to Suzano Papel e Celulose S.A. See Certain Uncoated Paper from Brazil: Final Results of Antidumping Duty Administrative Review; 2019-2020, 86 FR 55820 (October 7, 2021). Therefore, we are initiating this review on Suzano S.A.

⁵ In the initiation notice published on March 28, 2025 (90 FR 14081), we incorrectly omitted two of the companies under review, and listed an incorrect name for a third company. We are correcting these errors in this notice.

⁶ On July 3, 2024, Commerce determined that Varma Marine Private Limited is the successor-in-interest to Varma Marine. Therefore, the results of this review will be applicable to Varma Marine Private Limited. See Certain Frozen Warmwater Shrimp from India: Final Results of Antidumping Duty Changed Circumstances Review, 89 FR 55228 (July 3, 2024).

⁷ Subject merchandise produced and exported by Balkrishna Industries Ltd. (BKT) was excluded from the order. See Certain New Pneumatic Off-the-Road Tires from India: Notice of Correction to Antidumping Duty Order, 82 FR 25598 (June 2, 2017). Accordingly, Commerce is initiating this administrative review with respect to BKT only for subject merchandise produced in India where BKT acted as either the manufacturer or exporter (but not both).

⁸ Commerce previously determined that Anhui Trust Chem Co., Ltd.; Nanjing Trust Chem Co., Ltd.; and Jiangsu Trust Chem Co., Ltd. are cross-owned. See Certain Corrosion Inhibitors from the People's Republic of China: Final Results of Countervailing Duty Administrative Review; 2022, 89 FR 52024 (June 21, 2024).

⁹ Commerce previously determined that Nantong Botao Chemical Co., Ltd.; Rugao Connect Chemical Co., Ltd.; Rugao Jinling Chemical Co., Ltd.; and Nantong Yutu Group Co., Ltd. are cross-owned. See Certain Corrosion Inhibitors from the People's Republic of China: Final Results of Countervailing Duty Administrative Review; 2022, 89 FR 52024 (June 21, 2024).

Suspension Agreements

None.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹⁰ available at https://www.govinfo.gov/content/pkg/FR-2013-07-17/pdf/2013-17045.pdf, prior to submitting factual information in this segment. Note that Commerce has amended certain of its requirements pertaining to the service of documents in 19 CFR 351.303(f).¹¹

¹⁰ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹¹ See Administrative Protective Order, Service, and Other Procedures in Antidumping and Countervailing Duty Proceedings; Final Rule, 88 FR 67069 (September 29, 2023).

Any party submitting factual information in an AD or CVD proceeding must certify to the accuracy and completeness of that information using the formats provided at the end of the Final Rule.¹² Commerce intends to reject factual submissions in any proceeding segments if the submitting party does not comply with applicable certification requirements.

¹² See section 782(b) of the Act; see also Final Rule; and the frequently asked questions regarding the Final Rule, available at https://enforcement.trade.gov/tlei/notices/factual_info_final_rule_FAQ_07172013.pdf.

Time Limits for Submission of Factual Information in Response to Questionnaires

Section 351.301(c) of Commerce's regulations states that during a proceeding, Commerce may issue to any person questionnaires, which includes both and initial and supplemental questionnaires. For all administrative review segments initiated after January 15, 2025, the following time limits apply:

(i) Initial questionnaire responses are due 30 days from the date of receipt of such questionnaire. The time limit for response to individual sections of the questionnaire, if Commerce requests a separate response to such sections, may be less than the 30 days allotted for response to the full questionnaire. In general, the date of receipt will be considered to be seven days from the date on which the initial questionnaire was transmitted.

(ii) Supplemental questionnaire responses are due on the date specified by Commerce.

(iii) A notification by an interested party, under section 782(c)(1) of the Act, of difficulties in submitting information in response to a questionnaire issued by Commerce is to be submitted in writing within 14 days after the date of the questionnaire or, if the questionnaire is due in 14 days or less, within the time specified by Commerce.

(iv) A respondent interested party may request in writing that Commerce conduct a questionnaire presentation. Commerce may conduct a questionnaire presentation if Commerce notifies the government of the affected country and that government does not object.

(v) Factual information submitted to rebut, clarify, or correct questionnaire responses. Within 14 days after an initial questionnaire response and within 10 days after a supplemental questionnaire response has been filed with Commerce, an interested party other than the original submitter is permitted one opportunity to submit factual information to rebut, clarify, or correct factual information contained in the questionnaire response. Within seven days of the filing of such rebuttal, clarification, or correction to a questionnaire response, the original submitter of the questionnaire response is permitted one opportunity to submit factual information to rebut, clarify, or correct factual information submitted in the interested party's rebuttal, clarification or correction. Commerce will reject any untimely filed rebuttal, clarification, or correction submission and provide, to the extent practicable, written notice stating the reasons for rejection. If insufficient time remains before the due date for the final determination or final results of review, Commerce may specify shorter deadlines under this section.

Extension of Time Limits Regulation

Parties may request an extension of time limits before a time limit established under Part 351 expires, or as otherwise specified by Commerce.¹³ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, standalone submission, and clarifies the circumstances under which Commerce will grant untimely-filed requests for the extension of time limits. Please review the Final Rule, available at https://www.gpo.gov/fdsys/pkg/FR-2013-09-20/html/2013-22853.htm, prior to submitting factual information in these segments.

¹³ See 19 CFR 351.302.

Notification to Interested Parties

These initiations and this notice are in accordance with section 751(a) of the Act (19 U.S.C. 1675(a)) and 19 CFR 351.221(c)(1)(i).

Dated: April 22, 2025.
Scot Fullerton,
Acting Deputy Assistant Secretary for Antidumping and Countervailing Duty Operations.

[FR Doc. 2025-07286 Filed 4-25-25; 8:45 am]

BILLING CODE 3510-DS-P